DEPARTMENT OF AGRICULTURE

Office of Partnerships and Public Engagement

Advisory Committee on Beginning Farmers and Ranchers

AGENCY: Office of Partnerships and Public Engagement (OPPE), U.S. Department of Agriculture (USDA).

ACTION: Notice of public teleconference.

SUMMARY: Notice is hereby given, pursuant to the provisions of the rules and regulations of the Department of Agriculture and the Federal Advisory Committee Act (FACA), that a public teleconference of the Advisory Committee on Beginning Farmers and Ranchers (ACBFR) will be held to discuss the impact of COVID-19 on beginning farmers and ranchers. The purpose of the ACBFR meeting is to deliberate upon matters concerning beginning farmers and ranchers that provide advice and recommendations for the Secretary.

DATES: The public conference call will be held on May 19, 2020 at 2:00-4:00 Eastern Standard Time (EST).

Public Call-in Information: Interested members of the public may listen to the discussion by calling the following toll-free conference call-in number: Conference call-in number: Dial: 866-816-7252 Conference ID: 6188761.

Please be advised that before placing them into the conference call, the operator will ask callers to provide their names, their organizational affiliations (if any), and email addresses (so that callers may be notified of future meetings). Callers can expect to incur charges for calls they initiate over wireless lines, and the USDA will not refund any incurred charges. Callers will incur no charge for calls they initiate over land-line connections to the toll-free conference call-in number.

Public Comments: Written comments for the Committee's consideration may be submitted to email: ACBeginningFarmersandRanchers@usda.gov. Written comments must be received by May 18, 2020.

Public written comments will be considered by the Advisory Committee on Beginning Farmers and Ranchers at the meeting. Also, these written comments will be available in the notes/minutes of the May 19, 2020 conference call meeting and will be maintained in the public record of the federal advisory committee at USDA.

Availability of Materials for the Meeting: General information about the ACBFR as well as any updates concerning the meeting announced in this notice, may be found on the ACBFR website at https://www.usda.gov/partnerships/advisory-committee-on-beginning-farmers-and-ranchers.

Accessibility: USDA is committed to ensuring that all persons are included in our programs and events. If you are a person with a disability and require reasonable accommodations to participate in this meeting Please contact Maria Goldberg at maria.goldberg@usda.gov or at (202)720-6350.

Individuals who use telecommunication devices for the deaf (TDD) may call the Federal Information Relay Service (FIRS) at 1-800-877-8339 between 8:00 a.m. and 8:00 p.m., Eastern Standard Time, Monday through Friday.

FOR FURTHER INFORMATION CONTACT: Any member of the public wishing to obtain information concerning this public meeting may contact Maria Goldberg, Designated Federal Officer (DFO), at Maria.goldberg@usda.gov or at (202) 720-6350.

SUPPLEMENTARY INFORMATION: The Committee was originally established pursuant to Section 5(b) of the Agricultural Credit Improvement Act of 1992, 7 U.S.C. 1929 note (2008) ACBFR, as amended; and is established and managed in accordance with the provisions of the Federal Advisory Committee Act (FACA), as amended, 5 U.S.C. App. 2.

The Committee is to meet and review comments on beginning farmer and rancher policy and program issues and collaborate to make recommendations to the Secretary. The Committee shall advise the Secretary on matters broadly affecting new farmers and ranchers. The Committee shall consider Department goals and objectives necessary to implement prior recommendations and develop and recommend a framework and overall strategy.

Dated: April 27, 2020.
Cikena Reid,
USDA Committee Management Officer.

[FR Doc. 2020-09292 Filed 4-30-20; 8:45 am]

BILLING CODE P